DEPARTMENT OF HEALTH AND HUMAN SERVICES

Health Care Financing Administration

42 CFR Parts 409, 410, 411, 413, 424, and 484

[HCFA-1139-N]

Medicare Program; Town Hall Meeting on July 18, 2000 to Present an Overview of the Home Health Prospective Payment System Final Rule

AGENCY: Health Care Financing Administration (HCFA), HHS.

ACTION: Notice of meeting on final rule.

SUMMARY: This notice announces a public meeting to provide information on the home health prospective payment system (HH PPS) final rule. We intend to publish the final rule on or about June 30, 2000 in the Federal Register.

DATES: The HH PPS town hall meeting is scheduled for Tuesday, July 18, 2000, from 10:30 a.m. until 3:30 p.m., E.S.T.

ADDRESSES: The meeting will be held in the HCFA Central Office Main Auditorium, 7500 Security Boulevard, Baltimore, MD 21244-1850 with satellite broadcast viewing areas located in Boston, Chicago, Atlanta, and San Francisco.

FOR FURTHER INFORMATION CONTACT: Robin Phillips, HCFA, (410) 786-3010 (for general information). Alison Horan, The Lewin Group, (703) 269-5606 (for registration information).

SUPPLEMENTARY INFORMATION: We intend to publish the home health prospective payment system (HH PPS) final rule in the Federal Register on or about June 30, 2000. We are planning to hold a town hall meeting on Tuesday, July 18, 2000. We anticipate interested parties to include: the home health agency (HHA) industry association representatives, HHA administrators and owners, home care professionals, university-based and private research organizations, Congressional members and staff, home care software vendors, beneficiary advocates, and other interested parties.

In this meeting, we will provide an overview of the HH PPS final rule and will focus on a number of its key components and present past and current research efforts related to the HH PPS.

This meeting will be broadcast live from the HCFA Central Office Main Auditorium and will include four satellite broadcast viewing sites in Boston, Chicago, Atlanta, and San Francisco. All five sites have a capacity of approximately 500 individuals. The audiences viewing the broadcast via satellite will have the ability to participate in the question-and-answer period at the end of this presentation. For those who cannot attend in Baltimore, the address of the downlink sites, registration information, and satellite coordinates for this presentation will be posted on the HCFA website www.hcfa.gov or you may contact Alison Horan of The Lewin Group at (703) 269-5606. Once individuals are on this website, they will need to highlight the red bullet, in the lower right hand corner, titled “Events, Meetings, and Workgroups.”

The meeting will conclude with a question-and-answer session including the HCFA Central Office location as well as the three-satellite downlink sites. The toll-free phone number to call to participate will be broadcast during the meeting.

While the meeting is open to the public, attendance is limited to the space available. Individuals must register in advance as described below.

The Lewin Group will handle registration for all five meeting sites. Individuals may register through on the HCFA website, www.hcfa.gov or you may contact Alison Horan of The Lewin Group at (703) 269-5606. Once individuals are on this website, they will need to highlight the red bullet, in the lower right hand corner, titled “Events, Meetings, and Workgroups.”

Each participant will receive a confirmation letter as receipt of registration. Each participant will be provided with a meeting agenda at the time of the meeting. If individuals have any questions regarding registration, they should contact The Lewin Group, Alison Horan of The Lewin Group at (703) 269-5606.

Authority: Section 1895 of the Social Security Act (42 U.S.C. 1395fff).

Dated: June 21, 2000.
Nancy-Ann Min DeParle,
Administrator, Health Care Financing Administration.

[FR Doc. 00-16045 Filed 6-23-00; 8:45 am]

BILLING CODE 4120-01-P